DEPARTMENT OF COMMERCE

National Oceanic and Atmospheric Administration

RIN 0648-XJ29

Fisheries of the Caribbean, Gulf of Mexico, and South Atlantic; Snapper-Grouper Fishery off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Tom Burgess of Sneads Ferry, North Carolina. If granted, the EFP would authorize the applicant, with certain conditions, to collect limited numbers of snapper and grouper using chevron traps, a prohibited gear type, and compare results from inside and outside a proposed marine protected area (MPA). Acoustic sonar would be utilized to collect catch-per unit-effort (CPUE) data. This study is intended to collect data to develop a model for estimating deep-water snapper-grouper abundance in South Atlantic Federal waters.

DATES: Comments must be received no later than 5 p.m., Eastern time, on August 29, 2008.

ADDRESSES: You may submit comments on the application by any of the following methods:

• e-mail: Burgess.EFP@noaa.gov. Include in the subject line the following: “Comment on Burgess EFP Application.”

• Fax: 727-824-5308, Attn: Kate Michie.

• Mail: Kate Michie, Southeast Regional Office, NMFS, 263 13th Avenue South, St. Petersburg, FL 33701.

The application and related documents are available for review upon written request to the address above or the e-mail address below.

FOR FURTHER INFORMATION CONTACT: Kate Michie, 727-824-5305; fax 727-824-5308; e-mail: Kate.Michie@noaa.gov.

SUPPLEMENTARY INFORMATION: The EFP is requested under the authority of the Magnuson-Stevens Fishery Conservation and Management Act (16 U.S.C 1801 et seq.), as amended in 2006, and regulations at 50 CFR 600.745(b) concerning exempted fishing.

The proposed collection for scientific research involves activities otherwise prohibited by regulations implementing the Fishery Management Plan for the Snapper-Grouper Fishery of the South Atlantic Region. The applicant requires authorization to harvest and possess snapper and grouper using a prohibited gear type for scientific research activities during the period May through December 2008. Specimens would be collected from Federal waters off the coast of North Carolina.

The applicant's EFP application responds to a NMFS call for development of new, advanced technologies to assess fish stocks, and is the second phase of a two-pronged research endeavor funded by the Fishery Resource Grant Program. Phase one of the pilot survey included the collection of acoustic data using sonar, as well as CPUE (hook-and-line) data within a proposed MPA known as the Snowy Wreck MPA off North Carolina. That data collection was completed October 16, 2007, and indicates the use of high-end sonar gear shows promise of being able to predict relative abundance of deepwater snapper-grouper species from a much larger number of fish aggregations where acoustic data were collected but the area was not fished.

Phase two of the project (current proposal) proposes to use a novel census technique for deepwater snapper-grouper and lay the framework for a Before-After Control Impact (BACI) sampling design, by sampling inside the proposed Snowy Wreck MPA (experimental site), and two adjacent control sites, before NMFS establishes the MPA through the rulemaking process. It is expected that sampling within the experimental site and within the control site, before the MPA is implemented, will allow future comparisons of CPUE and acoustic backscatter once NMFS has implemented the MPA for some years. The overall intent of this project is to develop models to the extent that fishery managers may use acoustic data to reliably predict the abundance of important deepwater snapper-grouper species.

Phase two of this project proposes to use acoustic sonar, along with chevron traps, to develop a predictive model to estimate abundance of deepwater snapper-grouper species. Hook-and-line data would be collected opportunistically and would be used to augment existing models created using hook-and-line data from phase one. Those models would be compared to models created using chevron trap data from phase two of the project. Any live fish collected will be tagged and released. Dead or non-viable fish will be provided to the NMFS Beaufort Lab for further study. Estimates of acoustic data collected in the proposed Snowy Wreck MPA would be compared to those collected at the adjacent control site.

NMFS finds this application warrants further consideration. Based on a preliminary review, NMFS intends to issue an EFP. Possible conditions the agency may impose on this permit, if it is indeed granted, include but are not limited to, a prohibition of conducting research within other MPAs, marine sanctuaries, or special management zones, without additional authorization. Additionally, NMFS may prohibit the possession of Nassau or goliath grouper, and require any sea turtles taken incidentally during the course of fishing or scientific research activities to be handled with due care to prevent injury to live specimens, observed for activity, and returned to the water. A final decision on issuance of the EFP will depend on NMFS review of public comments received on the application, consultations with the affected state, the South Atlantic Fishery Management Council, and the U.S. Coast Guard, and a determination that it is consistent with all applicable laws.

Authority: 16 U.S.C 1801 et seq.

Dated: July 24, 2008.
Emily H. Menashes,
Acting Director, Office of Sustainable Fisheries, National Marine Fisheries Service.

[FR Doc. E8-17405 Filed 7-29-08; 8:45 am]

BILLING CODE 3510-22-S